FEDERAL COMMUNICATIONS COMMISSION

[CC Docket No. 92-237; DA 07-3887]

Next Meeting of the North American Numbering Council

AGENCY: Federal Communications Commission.

ACTION: Notice.

SUMMARY: On September 17, 2007, the Commission released a public notice announcing the October 10, 2007 meeting and agenda of the North American Numbering Council (NANC). The intended effect of this action is to make the public aware of the NANC's next meeting and agenda.

DATES: Wednesday, October 10, 2007, 9:30 a.m.

ADDRESSES: Competition Policy Division, Wireline Competition Bureau, Federal Communications Commission, Portals II, 445 Twelfth Street, SW., Suite 5-C162, Washington, DC 20554. Requests to make an oral statement or provide written comments to the NANC should be sent to Deborah Blue.

FOR FURTHER INFORMATION CONTACT: Deborah Blue, Special Assistant to the Designated Federal Officer (DFO) at (202) 418-1466 or Deborah.Blue@fcc.gov. The fax number is: (202) 418-2345. The TTY number is: (202) 418-0484.

SUPPLEMENTARY INFORMATION: Released: September 17, 2007. The North American Numbering Council (NANC) has scheduled a meeting to be held Wednesday, October 10, 2007, from 9:30 a.m. until 5 p.m. The meeting will be held at the Federal Communications Commission, Portals II, 445 Twelfth Street, SW., Room TW-C305, Washington, DC. This meeting is open to members of the general public. The FCC will attempt to accommodate as many participants as possible. The public may submit written statements to the NANC, which must be received two business days before the meeting. In addition, oral statements at the meeting by parties or entities not represented on the NANC will be permitted to the extent time permits. Such statements will be limited to five minutes in length by any one party or entity, and requests to make an oral statement must be received two business days before the meeting.

People with Disabilities: To request materials in accessible formats for people with disabilities (braille, large print, electronic files, audio format), send an e-mail to fcc504@fcc.gov or call the Consumer and Governmental Affairs Bureau at 202-418-0530 (voice), 202-418-0432 (tty). Reasonable accommodations for people with disabilities are available upon request. Include a description of the accommodation you will need, including as much detail as you can. Also include a way we can contact you if we need more information. Please allow at least five days advance notice; last minute requests will be accepted, but may be impossible to fill.

Proposed Agenda: Wednesday, October 10, 2007, 9:30 a.m:*

1. Announcements and Recent News

2. Approval of Transcript—Meeting of April 17, 2007

3. Report of the North American Numbering Plan Administrator (NANPA)

4. Report of the National Thousands Block Pooling Administrator (PA)

5. Report of the North American Numbering Portability Management (NAPM) LLC

6. Status of the Industry Numbering Committee (INC) activities

7. Report from the North American Numbering Plan Billing and Collection (NANP B&C) Agent

8. Report of the Billing & Collection Working Group (B&C WG)

9. Report of the Numbering Oversight Working Group (NOWG)

10. Report of the Local Number Portability Administration (LNPA) Working Group

11. Report of the Future of Numbering Working Group (FoN WG)

12. Special Presentations

13. Update List of the NANC Accomplishments

14. Summary of Action Items

15. Public Comments and Participation (5 minutes per speaker)

16. Other Business

Adjourn no later than 5 p.m.

* The Agenda may be modified at the discretion of the NANC Chairman with the approval of the DFO.

Federal Communications Commission.
Marilyn Jones,
Attorney, Wireline Competition Bureau.

[FR Doc. E7-18694 Filed 9-21-07; 8:45 am]

BILLING CODE 6712-01-P